FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Recordkeeping Guidance Associated with Changes in Foreign Investments Made Pursuant to Regulation K (FR 2064; OMB No. 7100-0109).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR 2064.

Final Approval Under OMB Delegated Authority of the Extension for Three Years, Without Revision, of the Following Information Collection

Collection title: Recordkeeping Guidance Associated with Changes in Foreign Investments. Made Pursuant to Regulation K.

Collection identifier: FR 2064.

OMB control number: 7100-0109.

General description of collection: Internationally active U.S. banking organizations are expected to maintain adequate internal records to allow examiners to review compliance with the investment provisions of Regulation K. This recordkeeping guidance is what makes up the FR 2064. For each investment made under Subpart A of Regulation K, a banking organization investor should maintain internal records regarding the type of investment; the amount of the investment; the percentage ownership; activities conducted by the company and the legal authority for such activities; and whether the investment was made under general consent, prior notice, or specific consent authority. With respect to investments made under general consent authority, information also should be maintained that demonstrates compliance with the various limits set out in section 211.9 of Regulation K. These records are reviewed by examiners during examinations, allowing the examiners to determine a banking organization's compliance with the Federal Reserve Act and Subpart A of Regulation K. Monitoring banking organizations' international investments also permits the Federal Reserve to ensure that banking organizations do not expose themselves to undue risk.

Frequency: On-going.

Respondents: U.S. banking organizations (member banks, Edge Act and agreement corporations, and bank holding companies) that have made a foreign investment.

Total estimated number of respondents: 20.

Total estimated annual burden hours: 160.

Current actions: On March 29, 2024, the Board published a notice in the Federal Register (89 FR 22147) requesting public comment for 60 days on the extension, without revision, of the FR 2064. The comment period for this notice expired on May 28, 2024. The Board did not receive any comments.

Board of Governors of the Federal Reserve System, July 24, 2024.
Michele Taylor Fennell,
Deputy Associate Secretary of the Board.

[FR Doc. 2024-16673 Filed 7-29-24; 8:45 am]

BILLING CODE 6210-01-P